DEPARTMENT OF STATE

[Public Notice 3890]

30-Day Notice of Proposed Information Collection: Proposal Submission Instructions: Department of State Forms DS-2011, DS-2012, DS-2013, DS-2014, DS-2015, DS-2016, DS-2017, and DS-2018 (OMB Control #1405-0115)

ACTION: Notice.

SUMMARY: The Department of State has submitted the following information collection request to the Office of Management and Budget (OMB) for approval in accordance with the Paperwork Reduction Act of 1995. Comments should be submitted to OMB within 30 days of the publication of this notice.

The following summarizes the information collection proposal submitted to OMB:

Type of Request: Reinstatement of a currently approved collection.

Originating Office: ECA-IIP/EX.

Title of Information Collection: Proposal Submission Instructions (PSI).

Frequency: 40 times a year (average), coincidental with Request for Grant Proposal competitions published in the Federal Register.

Form Number: DS-2011, DS-2012, DS-2013, DS-2014, DS-2015, DS-2016, DS-2017, DS-2018.

Respondents: Public and private non-profit organizations meeting the provisions described in IRS Code section 26 USC 501(c)(3).

Estimated Number of Respondents: Approximately 800 proposals will be submitted to the Bureau annually, accompanied by the Proposal Submission Instructions (PSI).

Average Hours Per Response: 20 hours per response.

Total Estimated Burden: 14,000 hours.

Public comments are being solicited to permit the agency to:

• Evaluate whether the proposed collection of information is necessary for the proper performance of the functions of the agency, including whether the information will have practical utility.

• Evaluate the accuracy of the agency's estimate of the burden of the collection, including the validity of the methodology and assumptions used.

• Enhance the quality, utility, and clarity of the information to be collected.

• Minimize the reporting burden on those who are to respond, including through the use of automated collection techniques or other forms of technology.

FOR FURTHER INFORMATION: Copies of the proposed information collection and supporting documents may be obtained from ECA-IIP/EX/PM, 301 4th Street, SW, (202) 619-5416, U.S. Department of State, Washington, DC 20547. Public comments and questions should be directed to the State Department Desk Officer, Office of Information and Regulatory Affairs, Office of Management and Budget (OMB), Washington, DC 20530, who may be reached on 202-395-3897.

Dated: November 29, 2001.
David Whitten,
Executive Director, Bureau of Educational and Cultural Affairs, Department of State.

[FR Doc. 02-1803 Filed 1-23-02; 8:45 am]

BILLING CODE 4710-05-U